DEPARTMENT OF STATE

[Public Notice 3990]

Bureau of Educational and Cultural Affairs Request for Grant Proposals: African Workforce Development

SUMMARY: The Near East/South Asia/Africa Division of the Office of Citizen Exchanges, Bureau of Educational and Cultural Affairs (ECA), announces an open competition to spur development of the African workforce for effective and satisfying participation in 21st century businesses, government, NGOs, and other venues. U.S.-based public and private non-profit organizations meeting the provisions described in Internal Revenue Code section 26 USC 501(c)(3) may submit proposals to conduct international exchange programs.

Programs and projects must comply with Bureau requirements and guidelines outlined in this Request for Grant Proposals (RFGP) and the Bureau's Proposal Submission Instructions (PSI).

Overview

The Bureau seeks proposals for an exchange program on African Workforce Development linking U.S. vocational trainers with African organizations seeking to strengthen their ability to upgrade the African workforce. U.S.-African partnership is emphasized as a mutually beneficial, direct and efficient method of promoting this goal. Partnerships promote the interests and long-term commitment of African and American participants going beyond U.S. government financing. Partnerships also help to establish a strong network of counterpart institutions in the U.S. and Africa, which invigorate and inform each other, enable collaborations and joint projects, and promote the exchange of information and resources.

Guidelines

The Office of Citizen Exchanges encourages applicants to be creative in planning project activities. Proposals should include practical, hands-on, community-based initiatives, designed to achieve concrete objectives in the field. The proposal should not focus on theoretical/academic workshops, seminars, studies or research.

In an effort to increase mutual understanding and build long-lasting linkages between the U.S. and African countries, proposals should include, to the fullest extent possible, an exchange involving equal numbers of American and African participants. In addition, applicants are encouraged to include participants who are new to international exchanges and/or to the target countries.

The Bureau encourages applicants to consider carefully the choice of target countries. In order to prevent duplication of effort, applicants should research the work of development agencies (such as USAID, UN agencies) on the target themes, and select countries for which there has been limited investment on the issue. Applicants are welcome to contact the Public Affairs Sections (PAS) in U.S. Embassies in Africa, and the Office of Citizen Exchanges, to discuss proposed activities and their relevance to mission priorities.

Applicants may design single-country or multiple-country projects. The Bureau offers the following programming ideas and suggestions.

Africa Workforce Development. The purpose of this program is to enhance Workforce Development efforts in Sub-Saharan Africa through Citizen Exchanges. In developing and carrying out such a program, we have a keen interest in utilizing electronic information technologies both as a vehicle for correspondence and training and as a workforce skill to be taught.

The Office realizes that there are many different conceptions of and approaches to workforce development, and is open to considering a wide variety of program plans while recommending that they do the following:

• Assist citizens in making the transition from academic studies to participation in the workforce;

• Assist citizens in learning skills and attitudes which make them more employable;

• Guide citizens in seeking jobs and in carrying them out satisfactorily;

• Provide training in information technology;

• Develop programs which can be delivered online as well as in person;

• Develop programs which are adaptable to local and individual needs;

• Develop programs which are easily portable and can be replicated in different venues; and

• Develop programs which will attract and maintain the attention of citizens, encouraging their initiative and commitment.

We anticipate awarding two $150,000 grants. While all of Sub-Saharan Africa is eligible in this solicitation, proposals should focus on one or two countries rather than a large group so as to maximize impact.

This program is intended to be a catalyst to stimulate thinking about the possibilities for wide range implementation of Workforce Development programs afforded though the use of new technologies.

It is expected that the selected grantees will install or enhance working Internet systems at the facilities of the African partners that will be linked to U.S. counterparts. Note that the Bureau would provide only modest support for this work out of the grant funds, but would expect that additional funds would be raised privately or otherwise cost-shared.

It is further expected that there will be a commitment on the part of the African partners to pay for future maintenance and on-line fees for the installations so that the systems will be fully operable far beyond the completion of the grant. The commitment of African partners will be important to long-term program success, and applicants should consider the possibility of selecting African partners through a competitive process to assess their commitment and capability.

The grantee is also expected to provide in its proposal an explanation of the need for workforce development in the targeted African country(ies) and to propose a detailed plan for working together with African partners to develop a basic curriculum to address this need. The final product of this grant activity must include the following:

• A basic interactive curriculum that works over the Internet and serves to advance Workforce Development in Sub-Saharan Africa;

• A plan to train presenters of the basic curriculum;

• A set of lead trainers who have gone through the prototype training program and who have performed a trial implementation of the basic course; and

• Establishment of an Internet network between U.S. organizations and the African partners to sustain productive interaction on this activity far beyond the term of the grant itself.

In order to achieve the most widespread understanding, appreciation and impact of this grant, this Office will expect the Grantee at the end of the program to come to Washington DC to make a presentation of the accomplishments and lessons learned through the grant to an audience selected by the Office of Citizen Exchanges.

Program activities for the above-listed theme might include:

1. A U.S.-based program that includes orientation to program purposes and to U.S. society; study tour/site visits; professional internships/placements; interaction and dialogue for learning; hands-on training; and action plan development.

2. Capacity-building/training-of-trainer (TOT) workshops in Africa to help participants to identify priorities, create work plans, strengthen professional and volunteer skills, share their experiences with committed people within each country, train leading trainers, and become active in other practical and valuable ways.

3. Site visits by U.S. facilitators/experts to monitor projects in the region and to provide additional training and consultations as needed.

4. Content-based Internet training/cyber-training to encourage citizen participation in workshops, fora, chats, and/or discussions via the Internet that will stimulate communication and information sharing among key opinion leaders on priority topics. In addition to using the Internet and Cyber Training to develop those very skills, on-line programs should be developed to teach other workforce skills such as literacy, numeracy, problem-solving, decision-making, leadership, personnel management, and personal qualities such as initiative, integrity, responsibility, flexibility, sociability, and respect for diversity.

Additional Guidance

Content-Based Internet Training: As noted above, the Bureau encourages applicants to use the Internet to assist African counterparts in networking, communicating and organizing on the above-listed priority issues. Proposals that include content-based Internet training must reflect knowledge of the opportunities and obstacles that exist for use of information technologies in the target country or countries, and, if needed, provide hardware, software and servers, preferably as a form of cost sharing. Internet and Cyber Training should be only one component of an overall program.

In-Country Partners: Applicants should identify the U.S. and African partner organizations and individuals with whom they are proposing to collaborate. Specific information about the African partners' activities and accomplishments is required and should be included in the section on “Institutional Capacity.” Resumes (not exceeding two pages) for individuals mentioned in the proposal should be provided, including proposed U.S. and African staff, trainers, consultants, etc. Letters of support from proposed in-country partners that are tailored to this project are strongly encouraged.

Evaluation: Short- and long-term evaluation is critical to the success of any professional development program. In accordance with the Government Performance and Results Act (GPRA) of 1993, Federal Agencies must create strategic plans, set performance goals, and develop methods for measuring how well the goals of this program are realized.

The grantee would be required to work closely with the Bureau to fulfill this responsibility. Applicants are asked to submit an evaluation plan that would address the GPRA requirements and assess the long-term impact and effectiveness of this program. The evaluation plan should include a listing of goals and results desired, and an indication of what types of information would be used to determine if these goals were met or results achieved, as well as a description of how the applicant would gather and evaluate this information. Please include with the proposal, at least in draft form, any evaluation tools (survey/focus group questions) that would be used as part of the overall plan.

Budget Guidelines

A total of $300,000 will be available, and we expect to award two grants of $150,000 each. Bureau policy states that organizations with less than four years of experience in managing international exchange programs are limited to $60,000; therefore they are not eligible to apply under this competition.

Applicants are strongly encouraged to consult with African partners in the design of the proposal budget and to obtain statements of commitment from those partners. Competitive proposals will demonstrate a thorough and realistic understanding of the costs for in-country administration, communication, transportation, and per diem. Proposals should include letters of support tailored to this project from proposed African partner organizations.

Format: Applicants must submit a comprehensive line item budget based on the model in the Proposal Submission Instructions, but are encouraged to provide the optional separate sub-budgets for each program component, location or activity in order to facilitate decisions on funding. Applicants should include a budget narrative or budget notes for clarification of each line item. Review Criteria for additional information.

Cost sharing: The Bureau's grant assistance will constitute only a portion of total project funding, and proposals should list and provide evidence of other sources of cost sharing, including financial and in-kind support. Proposals with substantial private sector support from foundations, corporations, and other institutions will be considered more competitive. Although no minimum amount of cost sharing is stipulated in this competition, preference will be given to proposals that provide cost sharing of at least 20 percent of total program costs (federal component plus cost sharing component). Thus if a grant of $150,000 in federal funds is awarded, the grantee should contribute at least $37,500 in cost sharing to achieve the 20% figure (20% of $187,500 = $37,500). Cost sharing may be offered in kind or in cash as long as its value can be confirmed through documentation. Please refer to the statement on cost sharing in the Proposal Submission cost sharing in the Proposal Submission Instructions.

1. Transportation. International and domestic airfares (per the Fly America Act), transit costs, ground transportation costs, and visas for U.S. participants to travel to African countries (J-1 visas for African participants to travel to the U.S. funded by the Bureau's grant assistance are issued at no charge).

2. Per Diem. For U.S.-based activities, organizations should use the published Federal per diem rates for individual U.S. cities. For activities in Africa, the Bureau strongly encourages applicants to budget realistic costs that reflect the local economy. Domestic and foreign per diem rates may be accessed at: http://www.policyworks.gov/. Applicants may opt to provide “home-stay” accommodations as a way to reduce per diems costs and as a way to enhance cross-cultural understanding. In no case may per diem rates exceed the U.S. Federal published rates.

3. Interpreters. If needed, interpreters for the U.S.-based program are available through the U.S. Department of State Language Services Office. Local interpreters with adequate skills and experience may be used for program activities.

Typically, one interpreter is provided for every four visitors who require interpreting, with a minimum of two interpreters. Bureau grants do not pay for foreign interpreters to accompany delegations from their home country. Salary costs for local interpreters must be included in the budget. Costs associated with using their services may not exceed rates for U.S. Department of State interpreters. The Bureau encourages applicants to use local interpreters. U.S. Department of State Interpreters may be used for highly technical programs with the approval of the Office of Citizen Exchanges. Proposal budgets should contain a flat $170/day per diem for each U.S. Department of State interpreter, as well as home-program-home air transportation of $400 per interpreter, reimbursements for taxi fares, plus any other transportation expenses during the program. Salary expenses are covered centrally and should not be part of an applicant's proposed budget.

4. Book and cultural allowance. Foreign participants are entitled to a one-time cultural allowance of $150 per person, plus a book allowance of $50. Interpreters should be reimbursed up to $150 for expenses when they escort participants to cultural events. U.S. program staff, trainers or participants are not eligible to receive these benefits.

5. Consultants. Consultants may be used to provide specialized expertise or to make presentations. Honoraria should not exceed $250 per day. Subcontracting organizations may also be used, in which case the written agreement between the prospective grantee and subcontractor should be included in the proposal. Subcontracts should be itemized in the budget.

6. Room rental. Room rental may not exceed $250 per day.

7. Materials development. Proposals may contain costs to purchase, develop and translate materials for participants.

The Bureau strongly discourages the use of automatic translation software for the preparation of training materials or any information distributed to the group of participants or network of organizations. Costs for good-quality translation of materials should be anticipated and included in the budget. Grantee organizations should expect to submit a copy of all program materials to the Bureau.

8. Equipment. Proposals may contain limited costs to purchase equipment for Africa-based programming such as computers, printers, and fax machines. Please note, however, that the Bureau encourages cost sharing for these expenses, and equipment costs must be kept to a minimum. Equipment purchased with ECA grant funds must be approved by ECA, and its final disposition after completion of the grant program will be determined by ECA. Costs for furniture are not allowed.

9. Working meal. Only one working meal may be provided during the program. Per capita costs may not exceed $8 for a lunch and $20 for a dinner, excluding room rental. The number of invited guests may not exceed participants by more than a factor of two-to-one. Interpreters must be included as participants.

10. Return travel allowance. A return travel allowance of $70 for each foreign participant should be included in the budget. The allowance may be used for incidental expenses incurred during international travel.

11. Health Insurance. The ECA Bureau insures international and U.S. participants in a variety of exchange-of-persons programs at no cost to the participants. This insurance is not all-purpose health insurance; it is subject to specific limitations. This insurance is not intended to replace any insurance a participant may already have. Instead, the intent is to supplement existing coverage and to ensure that a participant's basic health is protected in a foreign country. Please see the fuller statement on insurance in the Proposal Submission Instructions.

12. Administrative Costs. Costs necessary for the effective administration of the program may include salaries for grantee organization employees, benefits, and other direct and indirect costs per detailed instructions in the PSI. (Indirect costs are allowable only when the applicant has an indirect cost rate agreement with a qualified U.S. Government office.) Applicants are encouraged to budget administrative costs for African partner organizations to cover their in-country costs. While there is no rigid ratio of administrative to program costs, preference will be given to proposals whose administrative costs are less than twenty-five (25) per cent of the total requested from the Bureau. Proposals should show strong administrative cost-sharing contributions from the applicant, the African partner and other sources.

Please refer to the Proposal Submission Instructions (PSI) for complete budget guidelines.

Announcement Title and Number

All communications with the Bureau concerning this Request for Grant Proposals (RFGP) should refer to the announcement title “African Workforce Development” and reference number ECA/PE/C/NEAAF-02-74.

FOR FURTHER INFORMATION CONTACT: The Office of Citizen Exchanges, ECA/PE/C/NEAAF, Room 216, U.S. Department of State, 301 Fourth Street, SW., Washington, DC 20547, attention: Jim Ogul, telephone: (202) 205-0535 and fax number: (202) 619-4350, Internet address: jogul@pd.state.gov.

Please read the complete Federal Register announcement before sending inquiries or submitting proposals. Once the RFGP deadline has passed, Bureau staff may not discuss this competition with applicants until the proposal review process has been completed.

To Download a Solicitation Package Via Internet

The entire Solicitation Package may be downloaded from the Bureau's Web site at http://exchanges.state.gov/education/RFGPs. Please read all information before downloading.

Deadline for Proposals

All proposal copies must be received at the Bureau of Educational and Cultural Affairs by 5 p.m. Washington, DC time on June 10, 2002. Faxed documents will not be accepted at any time. Documents postmarked the due date but received on a later date will not be accepted. Each applicant must ensure that the proposals are received by the above deadline.

Applicants must follow all instructions given in the Application Package. The applicant's original proposal and ten (10) copies (unbound) should be sent to: U.S. Department of State, SA-44, Bureau of Educational and Cultural Affairs, Ref.: ECA/PE/C/NEAAF-02-74, Program Management, ECA/EX/PM, Room 534, 301 4th Street, SW., Washington, DC 20547.

Applicants must also submit the “Executive Summary” and “Proposal Narrative” sections of the proposal on a 3.5″ diskette, formatted for DOS. These documents must be provided in ASCII text (DOS) format or Microsoft Word format. The Bureau will transmit these files electronically to the Public Affairs section at the US Embassy for its review, with the goal of reducing the time it takes to get embassy comments for the Bureau's grants review process.

Public Affairs Section (PAS) Involvement

The Public Affairs Sections of the U.S. Embassies (formerly known as USIS posts) play a key role throughout every phase of project development. Posts assist in evaluating project proposals; coordinating planning with the grantee organization and in-country partners; facilitating in-country activities; nominating participants and vetting grantee nominations; observing in-country activities; debriefing participants; and evaluating project impact. Posts are responsible for issuing DSP-2019 forms (formerly known as the IAP-66 form) in order for overseas participants to obtain necessary J-1 visas for entry to the United States. They also serve as a link to in-country partners and participants.

Nonetheless, overall project administration and implementation are the responsibility of the grantee. The grantee must inform the PAS in participating countries of its operations and procedures and coordinate with and involve PAS officers in the development of project activities. The PAS should be consulted regarding country priorities, current security issues, and related logistical and programmatic issues.

VISA Regulations: Foreign participants on programs sponsored by the Bureau are granted J-1 Exchange Visitor visas by the U.S. Embassy in the sending country. All programs must comply with J-1 visa regulations. Please refer to the Proposal Submission Instructions (PSI) for further information.

Selection of Participants: Proposals should include description of an open, merit-based process for selecting international travelers in this project, including methods of advertising, recruitment and selection. A sample application should be submitted with the proposal. Applicants should expect to carry out the entire recruitment process, but the Bureau and the Public Affairs Sections of the U.S. Embassies abroad should also be consulted. The Bureau and the U.S. Embassies retain the right to nominate participants and to approve or reject participants recommended by the grantee institution. Priority must be given to foreign participants who have not traveled to the United States. ECA encourages applicants to design programs for non-English speakers where appropriate. The Bureau is particularly interested in projects that focus on or include persons with disabilities in any of the above-listed themes.

Diversity, Freedom and Democracy Guidelines

Pursuant to the Bureau's authorizing legislation, programs must maintain a non-political character and should be balanced and representative of the diversity of American political, social, and cultural life. “Diversity” should be interpreted in the broadest sense and encompass differences including, but not limited to ethnicity, race, gender, religion, geographic location, socio-economic status, and physical challenges. Applicants are strongly encouraged to adhere to the advancement of this principle both in program administration and in program content. Please refer to the review criteria under the ‘Support for Diversity' section for specific suggestions on incorporating diversity into the total proposal. Public Law 104-319 provides that “in carrying out programs of educational and cultural exchange in countries whose people do not fully enjoy freedom and democracy,” the Bureau “shall take appropriate steps to provide opportunities for participation in such programs to human rights and democracy leaders of such countries.” Public Law 106-113 requires that the governments of the countries described above do not have inappropriate influence in the selection process. Proposals should reflect advancement of these goals in their program contents, to the full extent deemed feasible.

Review Process

The Bureau will acknowledge receipt of all proposals and will review them for technical eligibility. Proposals will be deemed ineligible if they do not fully adhere to the guidelines stated herein and in the Solicitation Package. All eligible proposals will be reviewed by the program office, as well as the Public Diplomacy sections of U.S. embassies overseas, where appropriate. Eligible proposals will be subject to compliance with Federal and Bureau regulations and guidelines and forwarded to Bureau grant panels for advisory review. Proposals may also be reviewed by the Office of the Legal Adviser or by other Department elements. Final funding decisions are at the discretion of the Department of State's Assistant Secretary for Educational and Cultural Affairs. Final technical authority for assistance awards (grants) resides with the Bureau's Grants Officer.

Review Criteria

Technically eligible applications will be competitively reviewed according to the criteria stated below. These criteria are not rank ordered, and all are important in the proposal evaluation. Proposals should address each of these criteria:

1. Program Planning and Ability to Achieve Objectives: Program objectives should be stated clearly and precisely and should reflect the applicant's expertise in the subject area and the region. Objectives should respond to the priority topics in this announcement, and relate to the current conditions in the target country or countries. Objectives should be reasonable, attainable, and tied to the anticipated outcomes of the project. A detailed work plan should explain step-by-step how objectives would be achieved and should include a timetable for completion of major tasks. The substance of project planning, orientation sessions, workshops, presentations, consultations, site visits and seed/sub-grant projects should be included as attachments (i.e. sample agendas, draft applications, etc.). Responsibilities of U.S. and in-country partners should be clearly described.

2. Institutional Capacity: The proposal should include: (a) The U.S. institution's mission and date of establishment; (b) detailed information about the capacity of any partner institutions, and the history of the partnership(s); (c) an outline of prior awards—U.S. government and private support received for the target theme/region; and (d) descriptions of experienced staff members and other resource persons who would implement the program. Proposed personnel and institutional resources should be adequate and appropriate to achieve the program's goals. The narrative should demonstrate proven ability to handle logistics. The proposal should reflect the institution's expertise in the subject area and knowledge of the conditions in the target country/region(s). Specific information about the African partners' activities and accomplishments is required and should be included in the section on “Institutional Capacity.” Resumes for individuals mentioned in the proposal should be included, including proposed U.S. and African staff, trainers, consultants, etc.

3. Cost Effectiveness: Overhead and administrative costs for the proposal, including salaries, honoraria and subcontracts for services, should be kept to a minimum.

4. Cost Sharing: Applicants are encouraged to cost share a portion of overhead and administrative expenses. Cost sharing, including contributions from the applicant, U.S. or African partners, and other sources, should be included in the budget. Although no minimum amount of cost sharing is stipulated in this competition, preference will be given to proposals which provide cost sharing of at least 20 percent of total program costs.

5. Program Evaluation: The proposal must include a plan and methodology to evaluate the program's successes, both as activities unfold and at the program's conclusion. ECA recommends that the proposal include a draft survey questionnaire or other technique (such as a series of questions for a focus group) to link outcomes to original program objectives. The evaluation plan should include a summation of goals and results desired, and an indication of what types of information would be used to determine if these goals were met or results achieved, as well as a description of how the applicant would gather and evaluate this information. Please include with the proposal any evaluation tools (survey/focus group questions) that would be used as part of the overall plan.

6. Follow-On Activities: The proposal should provide a plan for continued follow-on activity (beyond the ECA grant period), ensuring that ECA-supported programs are not isolated events. Follow-on activities sponsored by the applicant should be clearly outlined.

7. Support of Diversity: The proposed project should demonstrate substantive support of the Bureau's policy on diversity. Program content (training sessions, resource materials, follow-on activities) and program administration (participant selection process, orientation, evaluation, resource/staff persons) should address diversity in a comprehensive and innovative manner. Applicants should refer to ECA's Diversity, Freedom and Democracy Guidelines below and on page four of the Proposal Submission Instructions (PSI).

8. Multiplier Effect/Impact: Applicants should describe how responsibility and ownership of the program would be transferred to the African participants to ensure continued activity and impact. Programs should be designed so that the sharing of information and training that occurs during the grant period will continue long after the grant period is over. Proven methods of sustainability include, but are not limited to: A model TOT program that would include initial training, practice presentation sessions for the African participants, followed by training activities coordinated and implemented by the African participants in their home countries; a commitment to create or support in-country training/resource centers; a curriculum program that would include teacher training, lesson plan development, and cooperation with ministries of education and related education administrators on implementation; development of online communities, professional networks or professional associations; regularly published electronic and/or hard-copy newsletters.

Proposals will be more competitive to the extent that they have: an active, existing partnership between a U.S. organization and African institution(s); a proven successful track record for conducting program activity; cost-sharing from U.S. and African sources, including donations of air fares, hotel and/or housing costs, ground transportation, interpreters, room rentals, etc.; experienced staff with relevant language ability; a clear, convincing plan outlining exactly how the program components will be carried out and how permanent results will be accomplished as a result of the grant; and a follow-on plan that extends beyond the Bureau grant period. Please refer to the Review Criteria above.

Authority

Overall grant making authority for this program is contained in the Mutual Educational and Cultural Exchange Act of 1961, Public Law 87-256, as amended, also known as the Fulbright-Hays Act. The purpose of the Act is “to enable the Government of the United States to increase mutual understanding between the people of the United States and the people of other countries * * *; to strengthen the ties which unite us with other nations by demonstrating the educational and cultural interests, developments, and achievements of the people of the United States and other nations * * * and thus to assist in the development of friendly, sympathetic and peaceful relations between the United States and the other countries of the world.” Funding authority for the program cited above is provided through the Fulbright-Hays Act.

Notice

The terms and conditions published in this RFGP are binding and may not be modified by any Bureau representative. Explanatory information provided by the Bureau that contradicts published language will not be binding. Issuance of the RFGP does not constitute an award commitment on the part of the Government. The Bureau reserves the right to reduce, revise, or increase proposal budgets in accordance with the needs of the program and the availability of funds. Awards made will be subject to periodic reporting and evaluation requirements.

Notification

Final awards cannot be made until funds have been appropriated by Congress, allocated and committed through internal U.S. Department of State procedures.

Dated: April 11, 2002.
Patricia S. Harrison,
Assistant Secretary for Educational and Cultural Affairs, Department of State.

[FR Doc. 02-9503 Filed 4-17-02; 8:45 am]

BILLING CODE 4710-05-P